DEPARTMENT OF THE INTERIOR

Bureau of Land Management

[OR-084-6333-00; GPO-0006]

Notice of Seasonal Closure of Public Lands; Baker County, OR

AGENCY: Bureau of Land Management, Vale District, Baker Field Office, Oregon.

ACTION: A seasonal closure to motorized vehicle use and public entry on public lands administered by the Bureau of Land Management (BLM), Vale District, Baker Resource Area, Oregon.

SUMMARY: This closure is part of the Cooperative Management Agreement between the BLM and the Oregon Department of Fish and Wildlife, dated September 18, 1985. This closure meets specific objectives stated in the Agreement to control vehicular traffic on the land during the period each year between December 1st and May 1st.

The closed area is the Elk winter feeding stations on Elk and Salmon Creek, section 8, Township 9 South, Range 39 East of the Willamette Meridian. All entry will be restricted during this seasonal closure to protect sensitive wildlife from disturbance by motor vehicles and public traffic. Wintering bald eagles also occupy the area during the closure dates.

Closure signs will be posed at main entry points to this area. Maps of the closure area and information may be obtained from the Baker Field Office, 3165 10th Street, Baker City, Oregon.

DATES: This closure will take effect October 6, 2000.

FOR FURTHER INFORMATION CONTACT: Penelope Dunn Woods, Bureau of Land Management, Baker Field Manager, 3165 10th Street, Baker City, OR 97814, Telephone (541) 523-1256.

Discussion of the Rules

Under 43 CFR 8364.1, the Bureau of Land Management will enforce the following rule on public lands within the closed area. You must follow this rule: You must not enter the closed area between December 1st and May 1st.

Exemptions

Persons who are exempt from these rules include:

1. Any Federal, State, or local officer or employee in the scope of their duties, members of any organized rescue or fire-fighting force in performance of an official duty, and any person authorized in writing by the Bureau of Land Management.

2. Any person traveling on the Salmon Creek Road (road numbers 9180 and 9180010) west of the locked gate located in the southeast ¼ of section 8, Township 9 South, Range 39 East.

3. Owners or lessees of private land accessible by the Salmon Creek Road.

Penalties

The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Penelope Dunn Woods,
Field Manager, Baker Resource Area.

[FR Doc. 00-25713 Filed 10-5-00; 8:45 am]

BILLING CODE 4310-33-M